SMALL BUSINESS ADMINISTRATION

[Declaration of Disaster #3308]

Commonwealth of Massachusetts

Suffolk County and the contiguous Counties of Essex, Middlesex, and Norfolk in Massachusetts constitute a disaster area as a result of damages caused by a fire that occurred on October 29, 2000 in the City of Boston. Applications for loans for physical damage as a result of this disaster may be filed until the close of business on January 16, 2001 and for economic injury until the close of business on August 14, 2001 at the address listed below or other locally announced locations: U.S. Small Business Administration, Disaster Area 1 Office, 360 Rainbow Boulevard South, 3rd Floor, Niagara Falls, NY 14303.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury:
Businesses and small agricultural cooperatives without credit available elsewhere | 4.000

The numbers assigned to this disaster are 330805 for physical damage and 9J4800 for economic injury.

(Catalog of Federal Domestic Assistance Program Nos. 59002 and 59008)
Dated: November 14, 2000.
Aida Alvarez,
Administrator.

[FR Doc. 00-29900 Filed 11-21-00; 8:45 am]

BILLING CODE 8025-01-U